DEPARTMENT OF LABOR

Employment and Training Administration

Amended Certification Regarding Eligibility To Apply for Worker Adjustment Assistance

In accordance with Section 223 of the Trade Act of 1974 (19 U.S.C. 2273) the Department of Labor issued a Notice of Certification Regarding Eligibility to Apply for Worker Adjustment Assistance on June 20, 2000, applicable to workers of PCS Nitrogen, Camanche, Iowa. The notice was published in the Federal Register on July 24, 2000 (65 FR 45620).

At the request of the petitioners, the Department reviewed the certification for workers of the subject firm. New company information shows that worker separations occurred at the LaPlatte, Nebraska facility of PCS Nitrogen in late 1999-early 2000. The workers produced ammonia, urea, nitric acid, ammonium nitrate and fertilizer solutions before ceasing in August, 1999.

Accordingly, the Department is amending the certification to cover the workers of PCS Nitrogen, LaPlatte, Nebraska.

The intent of the Department's certification is to include all workers of PCS Nitrogen who were adversely affected by increased imports.

The amended notice applicable to TA-W-36,693 is hereby issued as follows:

All workers of PCS Nitrogen, Camanche, Iowa (TA-W-37,693) and LaPlatte, Nebraska (TA-W-37,693A) who became totally or partially separated from employment on or after May 22, 1999 through June 20, 2002 are eligible to apply for adjustment assistance under Section 223 of the Trade Act of 1974.

Signed at Washington, D.C. this 25th day of September, 2000.
Edward A. Tomchick,
Director, Office of Trade Adjustment Assistance.

[FR Doc. 00-25610 Filed 10-4-00; 8:45 am]

BILLING CODE 4510-30-M